DEPARTMENT OF HEALTH AND HUMAN SERVICES

Centers for Medicare & Medicaid Services

[CMS-2416-N]

Basic Health Program; Final Administrative Order

AGENCY: Centers for Medicare & Medicaid Services (CMS), HHS.

ACTION: Notice of Final Administrative Order.

SUMMARY: This notice serves to announce that a Final Administrative Order related to the Basic Health Program (BHP) was issued to the States of New York and Minnesota on August 24, 2018.

DATES: The Final Administrative Order was effective August 24, 2018.

FOR FURTHER INFORMATION CONTACT: Christopher Truffer, (410) 786-1264; Meg Barry, (410) 786-1536.

SUPPLEMENTARY INFORMATION:

I. Background and Provisions of the Notice

The CMS Administrator issued a Final Administrative Order to set forth the revised payment methodology that applies to the Basic Health Program for 2018 only (HHS Revised BHP Payment Methodology). The Administrative Order is an agency action under 5 U.S.C. 551(13), issued pursuant to 5 U.S.C. 555(b) and (e).

The HHS Revised BHP Payment Methodology modifies the existing methodology for 2018, which is set forth in the payment notice entitled “Basic Health Program; Federal Funding Methodology for Program Years 2017 and 2018” (81 FR 10091, February 29, 2016) (February 2016 Payment Notice). The modification involves the application of a Premium Adjustment Factor (PAF) that considers the premium increases in other states that became effective after the Centers for Medicare & Medicaid Services (CMS), an operating division of the U.S. Department of Health and Human Services (HHS), discontinued payments to issuers for cost-sharing reductions (CSRs) provided to enrollees in qualified health plans (QHPs) offered on health insurance Exchanges.

On July 6, 2018, pursuant to an amended stipulated order issued in State of New York v. U.S. Department of Health and Human Services, 18-cv-00683 (S.D.N.Y. filed Jan. 26, 2018), CMS issued a Draft Administrative Order on which New York and Minnesota (the States) had an opportunity to comment. The States each submitted comments on August 6, 2018. CMS considered those comments in issuing the Final Administrative Order, which adopts the HHS Revised BHP Payment Methodology for 2018 as set forth in the Draft Administrative Order.

II. Collection of Information Requirements

This document does not impose information collection requirements, that is, reporting, recordkeeping, or third-party disclosure requirements. Consequently, review by the Office of Management and Budget under the authority of the Paperwork Reduction Act of 1995 (44 U.S.C. 3501, et seq.) is not required.

III. Addendum

We are publishing the Final Administrative Order as an addendum to this Notice.

Dated: November 2, 2018.
Seema Verma,
Administrator, Centers for Medicare & Medicaid Services.

BILLING CODE 4120-01-P

[FR Doc. 2018-24673 Filed 11-9-18; 8:45 am]

BILLING CODE 4120-01-C